DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Shipboard Observation Form for Floating Marine Debris.

OMB Control Number: None.

Form Number(s): None.

Type of Request: Regular submission (request for a new information collection).

Number of Respondents: 45.

Average Hours per Response: 1 hour.

Burden Hours: 45.

Needs and Uses: This request is for a new information collection.

This data collection project will be coordinated by James Callahan (private citizen/recreational sailor who began this data collection on a small-scale in 2008) with assistance from the NOAA Marine Debris Program, recreational sailors (respondents), NGOs (respondents) as well as numerous experts on marine debris observations at sea. The Shipboard Observation Form for Floating Marine Debris was created based on methods used in studies of floating marine debris by established researchers, previous shipboard observational studies conducted at sea by NOAA, and the experience and input of recreational sailors. The goal of this form is to be able to calculate the density of marine debris within an area of a known size. Additionally, this form will help collect data on potential marine debris resulting from the March 2011 Japan tsunami in order to better model movement of the debris as well as prepare (as needed) for debris arrival to areas around the Pacific. This form may be used to collect data on floating marine debris in any water body. This survey will assist in carrying out activities prescribed in the Marine Debris Research, Prevention, and Reduction Act of 2006 (33 U.S.C. 1951 et seq.), mainly “mapping, identification and impact assessment”.

Affected Public: Individuals or households; not-for-profit organizations.

Frequency: On occasion.

Respondent's Obligation: Voluntary.

OMB Desk Officer: OIRA_Submission@omb.eop.gov.

Copies of the above information collection proposal can be obtained by calling or writing Diana Hynek, Departmental Paperwork Clearance Officer, (202) 482-0266, Department of Commerce, Room 6616, 14th and Constitution Avenue NW., Washington, DC 20230 (or via the Internet at dHynek@doc.gov).

Written comments and recommendations for the proposed information collection should be sent within 30 days of publication of this notice to OIRA_Submission@omb.eop.gov.

Dated: November 21, 2011.
Gwellnar Banks,
Management Analyst, Office of the Chief Information Officer.

[FR Doc. 2011-30394 Filed 11-25-11; 8:45 a.m.]

BILLING CODE 3510-22-P